DEPARTMENT OF HOMELAND SECURITY

Federal Emergency Management Agency

[Docket ID FEMA-2025-0002; Internal Agency Docket No. FEMA-B-2539]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP).

DATES: Comments are to be submitted on or before October 7, 2025.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2539, to David Bascom, Acting Director, Engineering and Modeling Division, Risk Analysis, Planning & Information Directorate, FEMA, 400 C Street SW, Washington, DC 20472, or (email) david.bascom@fema.dhs.gov.

FOR FURTHER INFORMATION CONTACT: David Bascom, Acting Director, Engineering and Modeling Division, Risk Analysis, Planning & Information Directorate, FEMA, 400 C Street SW, Washington, DC 20472, or (email) david.bascom@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Elizabeth Asche,
Assistant Administrator, Federal Insurance Directorate, Resilience, Federal Emergency Management Agency, Department of Homeland Security.

Community | Community map repository address
Hunterdon County, New Jersey (All Jurisdictions)
Project: 18-02-0007S Preliminary Date: April 02, 2021 and March 07, 2025
Township of Union | Township of Union Municipal Building, Zoning Department, 140 Perryville Road, Hampton, NJ 08827.
Somerset County, New Jersey (All Jurisdictions)
Project: 18-02-0007S Preliminary Date: March 26, 2021 and March 07, 2025
Township of Bedminster | Township Hall, One Miller Lane, Bedminster, NJ 07921.
Township of Branchburg | Municipal Building, Engineering Department, 1077 US Highway 202 North, Branchburg, NJ 08876.
Township of Hillsborough | Municipal Complex, Engineering Department, 379 South Branch Road, Hillsborough, NJ 08844.
Genesee County, New York (All Jurisdictions)
Project: 21-02-0005S Preliminary Date: March 03, 2025
City of Batavia | City Hall, One Batavia City Centre, Batavia, NY 14020.
Town of Alabama | Alabama Town Hall, 2218 Judge Road, Oakfield, NY 14125.
Town of Alexander | Town Hall, 3350 Church Street, Alexander, NY 14005.
Town of Batavia | Town Hall, 3833 West Main Street Road, Batavia, NY 14020.
Town of Bergen | Town Hall, 10 Hunter Street, Bergen, NY 14416.
Town of Bethany | Bethany Town Hall, 10510 Bethany Center Road, East Bethany, NY 14054.
Town of Byron | Town Hall, 7028 Byron Holley Road, Byron, NY 14422.
Town of Darien | Darien Town Hall, 10569 Alleghany Road, Darien Center, NY 14040.
Town of Elba | Town Hall, 7133 Oak Orchard Road, Elba, NY 14058.
Town of LeRoy | Town Hall, 48 Main Street, LeRoy, NY 14482.
Town of Oakfield | Community and Government Center, 3219 Drake Street, Oakfield, NY 14125.
Town of Pavilion | Town Building, One Woodrow Drive, Pavilion, NY 14525.
Town of Pembroke | Pembroke Town Office, 1145 Main Road, Corfu, NY 14036.
Town of Stafford | Town Hall, 8903 Route 237, Stafford, NY 14143.
Village of Alexander | Village Hall, 3350 Church Street, Alexander, NY 14005.
Village of Attica | Municipal Building, 9 Water Street, Attica, NY 14011.
Village of Bergen | Village Office, 11 North Lake Avenue, Bergen, NY 14416.
Village of Corfu | Clifford A. Fauth Memorial Fire Hall, 116 East Main Street, Corfu, NY 14036.
Village of Elba | Village Hall, 4 South Main Street, Elba, NY 14058.
Village of LeRoy | Village Hall, 3 West Main Street, LeRoy, NY 14482.
Village of Oakfield | Village Hall, 37 Main Street, Oakfield, NY 14125.

[FR Doc. 2025-12736 Filed 7-8-25; 8:45 am]

BILLING CODE 9110-12-P